ENVIRONMENTAL PROTECTION AGENCY

[EPA-HQ-OW-2014-0135; FRL-9912-73-OW]

Extension of Request for Scientific Views for Updated National Recommended Water Quality Criteria for the Protection of Human Health

AGENCY: Environmental Protection Agency (EPA).

ACTION: Notice; extension of the request for scientific views.

SUMMARY: The Environmental Protection Agency (EPA) is extending the comment period for the draft updated national recommended water quality criteria for the protection of human health announced in a previous notice entitled “Updated National Recommended Water Quality Criteria for the Protection of Human Health.” In response to stakeholder requests, the EPA is extending the period of time in which the Agency will accept scientific views for an additional 30 days.

DATES: Scientific views must be received on or before August 13, 2014. The comment period was originally scheduled to end on July 14, 2014.

ADDRESSES: Submit your comments, identified by Docket ID No. EPA-HQ-OW-2014-0135, by one of the following methods:

• www.regulations.gov: Follow the on-line instructions for submitting comments.

• Mail: Water Docket, Environmental Protection Agency, 28221T, 1200 Pennsylvania Ave. NW., Washington, DC 20460. Attention Docket ID No. EPA-HQ-OW-2014-0135.

• Hand Delivery: Water Docket, EPA Docket Center, EPA WJC West Building Room 3334, 1301 Constitution Ave. NW., Washington, DC, 20004, Attention Docket EPA-HQ-OW-2014-0135. Deliveries to the docket are accepted only during their normal hours of operation: 8:30 a.m. to 4:30 p.m., Monday through Friday, excluding legal holidays. For access to docket materials, call (202) 566-2426, to schedule an appointment.

• Email: ow-docket@epa.gov; Attention Docket No. EPA-HQ-OW-2014-0135. To ensure that EPA can properly respond to comments, commenters should cite the section(s) or chemical(s) in draft updates to which each comment refers. Commenters should use a separate paragraph for each issue discussed, and must submit any references cited in their comments. If you submit an electronic comment, EPA recommends that you include your name and other contact information in the body of your comment. Electronic files should avoid any form of encryption and should be free of any defects or viruses.

Instructions: Direct your comments to Docket ID No. EPA-HQ-OW-2014-0135. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov. The www.regulations.gov Web site is an “anonymous access” system, which means EPA will not know your identity or contact information unless you provide it in the body of your comment. If you send an email comment directly to EPA without going through www.regulations.gov your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Water Docket, EPA/DC, EPA West, Room 3334, 1301 Constitution Ave. NW., Washington, DC. The Public Reading Room is open from 8:30 a.m. to 4:30 p.m., Monday through Friday, excluding legal holidays. The telephone number for the Public Reading Room is (202) 566-1744, and the telephone number for the Water Docket is (202) 566-2426.

FOR FURTHER INFORMATION CONTACT: Heidi Bethel at U.S. EPA, Office of Water, Health and Ecological Criteria Division (Mail Code 4304T), 1200 Pennsylvania Avenue NW., Washington, DC 20460; telephone: (202) 566-2054; or email: bethel.heidi@epa.gov.

SUPPLEMENTARY INFORMATION: On May 13, 2014, the EPA announced the availability of draft updated national recommended water quality criteria for the protection of human health in a previous notice entitled “Updated National Recommended Water Quality Criteria for the Protection of Human Health” in the Federal Register (79 FR 27303). EPA updated its national recommended water quality criteria for human health for ninety-four chemical pollutants to reflect the latest scientific information and current EPA policies. The draft updated criteria are based on EPA's current methodology for deriving human health criteria as described in “Methodology for Deriving Ambient Water Quality Criteria for the Protection of Human Health (2000)” and do not establish new policy. EPA's recommended water quality criteria provide technical information for States and authorized Tribes to establish water quality standards under the Clean Water Act to protect human health.

The original comment deadline was July 14, 2014. This action extends the comment period for 30 days. Written scientific views must now be received by August 13, 2014.

Dated: June 13, 2014.
Elizabeth Southerland,
Director, Office of Science and Technology.

[FR Doc. 2014-14597 Filed 6-20-14; 8:45 am]

BILLING CODE 6560-50-P